ENVIRONMENTAL PROTECTION AGENCY

40 CFR Part 52

[EPA-R03-OAR-2011-0379; FRL-9314-4]

Approval and Promulgation of Air Quality Implementation Plans; Pennsylvania; Revision to the Inspection and Maintenance (I/M) Program—Quality Assurance Protocol for the Safety Inspection Program in Non-I/M Counties

AGENCY: Environmental Protection Agency (EPA).

ACTION: Direct final rule.

SUMMARY: EPA is taking direct final action to approve revisions to the Pennsylvania State Implementation Plan (SIP). The revision consists of a change by the Commonwealth of Pennsylvania to the quality assurance program for its motor vehicle inspection and maintenance program (I/M program). Specifically, the Commonwealth is amending a provision of its prior SIP-approved I/M program to change the duration of the timing of quality assurance audits performed by the Pennsylvania Department of Transportation (PENNDOT) as part of their program oversight. The amendment allows for these audits to be conducted within five days of vehicle inspection, instead of the two-day window allowed under the prior approved SIP. This SIP revision affects forty-two counties in Pennsylvania where visual emissions equipment inspections are performed as part of the Commonwealth's annual vehicle safety inspection program (i.e., non-I/M counties). It does not affect the twenty-five counties where separate enhanced I/M emissions inspections are performed in addition to the annual safety inspection program (i.e., I/M counties). This SIP revision applies to PENNDOT staff overseeing stations that conduct safety inspections in non-I/M program counties. It does not impact motorists subject to the program or stations that perform emissions inspections. EPA is approving this amendment to Pennsylvania's approved I/M SIP in accordance with the requirements of the Clean Air Act (CAA).

DATES: This rule is effective on August 5, 2011 without further notice, unless EPA receives adverse written comment by July 6, 2011. If EPA receives such comments, it will publish a timely withdrawal of the direct final rule in the Federal Register and inform the public that the rule will not take effect.

ADDRESSES: Submit your comments, identified by Docket ID Number EPA-R03-OAR-2011-0379 by one of the following methods:

A. http://www.regulations.gov. Follow the on-line instructions for submitting comments.

B. E-mail: fernandez.cristina@epa.gov.

C. Mail: EPA-R03-OAR-2011-0379, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0379. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103.

Copies of the State submittal are available at the Pennsylvania Department of Environmental Protection, Bureau of Air Quality Control, P.O. Box 8468, 400 Market Street, Harrisburg, Pennsylvania 17105.

FOR FURTHER INFORMATION CONTACT: Brian Rehn, (215) 814-2176, or by e-mail at rehn.brian@epa.gov.

SUPPLEMENTARY INFORMATION: Throughout this document, whenever “we,” “us,” or “our” is used, we mean EPA.

I. Background

On May 22, 2009, the Commonwealth of Pennsylvania submitted a formal revision to its SIP. That SIP revision, which is the subject of this action, consists of an amendment to the enhanced motor vehicle emission inspection program SIP submitted by Pennsylvania on December 1, 2003 and approved as part of the Commonwealth's SIP on October 6, 2005 (70 FR 58313). This SIP revision amends Pennsylvania's quality assurance program, which applies to PENNDOT staff that oversee the anti-tampering visual inspection performed as part of the annual safety inspection program in the forty-two Pennsylvania counties (where separate enhanced I/M inspection is not required).

II. Summary of SIP Revision

Pennsylvania's approved I/M SIP includes, as a SIP-strengthening measure, a program to address emissions from in-use vehicles registered in counties in Pennsylvania that are not mandated by the CAA to have an emission inspection program. In these forty-two non-I/M counties, Pennsylvania requires (as part of its annual vehicle safety inspection) a visual check of select vehicle emission components to ensure that the components have not been removed or disconnected, and that they are the correctly configured components for that particular vehicle (referred to hereafter as the anti-tampering program). This SIP-approved anti-tampering program check applies to the following components (where equipped on a new vehicle as part of an EPA-certified configuration): Catalytic converter, exhaust gas recirculation (EGR) valve, positive crankcase ventilation (PCV) valve, fuel inlet restrictor, air pump, and evaporative control system. The non-I/M region affected by this SIP revision is comprised of the following counties: Adams, Armstrong, Bedford, Bradford, Butler, Cameron, Carbon, Clarion, Clearfield, Clinton, Columbia, Crawford, Elk, Fayette, Forest, Franklin, Fulton, Greene, Huntingdon, Indiana, Jefferson, Juniata, Lawrence, McKean, Mifflin, Monroe, Montour, Northumberland, Perry, Pike, Potter, Schuylkill, Snyder, Somerset, Sullivan, Susquehanna, Tioga, Union, Venango, Warren, Wayne, and Wyoming.

The SIP revision amends a portion of the Commonwealth's quality assurance program for safety inspections, as it relates to administrative audits of approximately 5,200 safety inspection stations in the forty-two non-I/M counties. The quality assurance program established a window during which program auditors ascertain whether selected vehicles properly passed the required visual emissions equipment inspection portion of the state-required, annual vehicle safety inspection. After reviewing its procedures, PENNDOT determined that increasing the length of time between the safety inspection and the allowable time by when PENNDOT inspectors can perform an inspection audit from two to five days allows for improved oversight of the visual inspection portion of the safety inspection program. This allows the Commonwealth to better assure that the visual inspection is being properly performed as part of the safety inspection in non-I/M counties, ensuring that these emission components are present and have not been tampered with, as is required by the CAA. The visual inspection bolsters the Commonwealth's SIP by ensuring that vehicles in non-I/M counties in the Commonwealth are operated with the required emissions components in place. The Commonwealth's SIP revision is intended to improve the Commonwealth's ability to oversee the safety inspection program in the non-I/M counties to better ensure that the visual emissions component inspection is being properly performed by safety inspection technicians. This SIP revision is a procedural change that does not affect the Commonwealth's prior SIP-approved I/M regulations, nor does it affect oversight of the I/M program in the 25 counties where I/M is performed separately from the state safety inspection program.

III. Final Action

EPA is approving Pennsylvania's SIP revision to amend the quality assurance program for visual emission component inspection performed as part of the Commonwealth's annual safety inspection program in non-I/M counties. EPA is publishing this rule without prior proposal because EPA views this as a noncontroversial amendment and anticipates no adverse comment. However, in the “Proposed Rules” section of today's Federal Register, EPA is publishing a separate document that will serve as the proposal to approve the SIP revision if adverse comments are filed. This rule will be effective on August 5, 2011 without further notice unless EPA receives adverse comment by July 6, 2011. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by August 5, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking.

This action to approve Pennsylvania's quality assurance program changes for oversight of the safety inspection program in non-I/M counties may not be challenged later in proceedings to enforce its requirements. (See section 307(b)(2).)

List of Subjects in 40 CFR Part 52

Environmental protection, Air pollution control, Carbon monoxide, Environmental protection, Incorporation by reference, Intergovernmental relations, Nitrogen dioxide, Ozone, Volatile organic compounds.

Dated: May 18, 2011.
Shawn M. Garvin,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph (e)(1) is amended by adding an entry for Revision of the Quality Assurance Protocol for the Safety Inspection Program in Non-I/M Counties at the end of the table to read as follows:

§ 52.2020 Identification of plan.

* * * * *

(e) * * *

(1) * * *

Name of non-regulatory SIP revision | Applicable geographic area | State submittal date | EPA approval date | Additional explanation
* * * * * * *
Revision of the Quality Assurance Protocol for the Safety Inspection Program in Non-I/M Counties | Non-I/M Program Region, Counties of: Adams, Armstrong, Bedford, Bradford, Butler, Cameron, Carbon, Clarion, Clearfield, Clinton, Columbia, Crawford, Elk, Fayette, Forest, Franklin, Fulton, Greene, Huntingdon, Indiana, Jefferson, Juniata, Lawrence, McKean, Mifflin, Monroe, Montour, Northumberland, Perry, Pike, Potter, Schuylkill, Snyder, Somerset, Sullivan, Susquehanna, Tioga, Union, Venango, Warren, Wayne, and Wyoming | 5/22/09 | 6/6/11 [Insert page number where the document begins] | Applicable to SIP-approved safety inspection program regulation for non-I/M counties at Title 67, Part 1, Chapter 175.

* * * * *

[FR Doc. 2011-13878 Filed 6-3-11; 8:45 am]

BILLING CODE 6560-50-P